DEPARTMENT OF ENERGY

Federal Energy Regulatory Commission

Sunshine Act Meeting Notice

The following notice of meeting is published pursuant to section 3(a) of the government in the Sunshine Act (Pub. L. 94-409), 5 U.S.C. 552b:

TIME AND DATE: February 18, 2016 at 10 a.m.

PLACE: Room 2C, 888 First Street NE., Washington, DC 20426.

STATUS: Open.

MATTERS TO BE CONSIDERED: Agenda *NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1024th—Meeting
[Regular meeting, February 18, 2016, 10:00 a.m.]
Item No. | Docket No. | Company
Administrative
A-1 | AD16-1-000 | Agency Administrative Matters.
A-2 | AD16-7-000 | Customer Matters, Reliability, Security and Market Operations.
Electric
E-1 | EC15-157-000 | Pennsylvania Electric Company, Metropolitan Edison Company, Jersey Central Power & Light Company, FirstEnergy Transmission, LLC, Mid-Atlantic Interstate Transmission, LLC.
E-2 | RM16-6-000 | Essential Reliability Services and the Evolving Bulk-Power System—Primary Frequency Response.
E-3 | EL16-27-000 | West-Wide Must-Offer Requirements.
E-4 | EL16-7-000 | City of Osceola, Arkansas v. Entergy Arkansas, Inc. and Entergy Services, Inc.
E-5 | ER16-178-000, ER16-180-000, ER16-180-001 | Public Service Company of Colorado.
| ER16-212-000, ER16-212-001, ER16-217-000, ER16-217-001 | Black Hills/Colorado Electric Utility Company, LP.
E-6 | ER16-168-000, ER16-168-001 | New York Independent System Operator, Inc.
E-7 | ER15-1922-000 | Entergy Gulf States Louisiana, L.L.C., Entergy Louisiana, LLC, Entergy New Orleans, Inc.
E-8 | ER16-619-000 | PJM Interconnection, L.L.C. and Public Service Electric and Gas Company.
E-9 | ER15-2294-001 | Pacific Gas and Electric Company.
E-10 | ER14-2529-001 | Pacific Gas and Electric Company.
E-11 | ER13-2157-004, ER13-2157-005 | Midcontinent Independent System Operator, Inc.
E-12 | ER15-237-004, ER15-326-001 | Public Service Company of Colorado.
| ER15-295-003, ER15-348-003 | Black Hills/Colorado Electric Utility Company, LP.
E-13 | ER15-2571-001, ER15-2572-001, ER15-2573-001 | GenOn Energy Management, LLC.
Gas
G-1 | RP16-131-000 | Gulf South Pipeline Company, LP.
G-2 | RP10-1398-003, RP10-1398-000, RP10-1398-004 | EL Paso Natural Gas Company.
G-3 | RP15-1022-003 | Alliance Pipeline L.P.
Hydro
H-1 | P-14491-002, P-13579-004 | Western Minnesota Municipal Power Agency FFP Qualified Hydro 14, LLC.
Certificates
C-1 | CP15-495-000 | Columbia Gas Transmission, LLC.
C-2 | CP15-272-000, CP15-272-001 | Regency Field Services LLC.
C-3 | CP15-104-001 | DBM Pipeline, LLC.
C-4 | CP14-27-001 | Tres Palacios Gas Storage LLC.
C-5 | CP16-58-000 | Iroquois Gas Transmission System, L.P.

Issued: February 11, 2016.
Nathaniel J. Davis, Sr.,
Deputy Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-03318 Filed 2-12-16; 4:15 pm]

BILLING CODE 6717-01-P